DEPARTMENT OF COMMERCE

National Oceanic and Atmospheric Administration

RIN 0648-XA339

Marine Mammals; File No. 15271

AGENCY: National Marine Fisheries Service (NMFS), National Oceanic and Atmospheric Administration (NOAA), Commerce.

ACTION: Notice; issuance of permit.

SUMMARY: Notice is hereby given that James T. Harvey, Moss Landing Marine Laboratories, 8272 Moss Landing Road, Moss Landing, CA 95039 has been issued a permit to conduct research on blue (Balaenoptera musculus), fin (B. physalus), humpback (Megaptera novaeangliae), and gray (Eschrichtius robustus) whales.

ADDRESSES: The permit and related documents are available for review upon written request or by appointment in the following offices:

Permits, Conservation and Education Division, Office of Protected Resources, NMFS, 1315 East-West Highway, Room 13705, Silver Spring, MD 20910; phone (301) 713-2289; fax (301) 713-0376;

Northwest Region, NMFS, 7600 Sand Point Way NE, BIN C15700, Bldg. 1, Seattle, WA 98115-0700; phone (206) 526-6150; fax (206) 526-6426; and

Southwest Region, NMFS, 501 West Ocean Blvd., Suite 4200, Long Beach, CA 90802-4213; phone (562) 980-4001; fax (562) 980-4018.

FOR FURTHER INFORMATION CONTACT: Kristy Beard or Amy Hapeman, (301) 713-2289.

SUPPLEMENTARY INFORMATION: On August 31, 2010, notice was published in the Federal Register (75 FR 53271) that a request for a permit to conduct research on the species identified above had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The five-year permit authorizes research on large whale species off California, Oregon, and Washington; the primary research area is off the Southern California Bight, San Luis Obispo, Monterey Bay, and San Francisco. Researchers are authorized to approach whales for photo-identification and biopsy sampling. A subset of whales may be suction-cup tagged, dart-tagged, or tagged with small implantable tags. The permit also authorizes incidental harassment of California sea lions (Zalophus californianus), harbor seals (Phoca vitulina richardii), Pacific white-sided dolphins (Lagenorhynchus obliquidens), Northern right whale dolphins (Lissodelphis borealis), harbor porpoise (Phocoena phocoena) and short-beaked common dolphins (Delphinus delphis).

An environmental assessment (EA) was prepared analyzing the effects of the permitted activities on the human environment in compliance with the National Environmental Policy Act of 1969 (42 U.S.C. 4321 et seq.). Based on the analyses in the EA, NMFS determined that issuance of the permit would not significantly impact the quality of the human environment and that preparation of an environmental impact statement was not required. That determination is documented in a Finding of No Significant Impact (FONSI), signed on March 24, 2011.

As required by the ESA, issuance of this permit was based on a finding that such permit: (1) Was applied for in good faith; (2) will not operate to the disadvantage of such endangered species; and (3) is consistent with the purposes and policies set forth in section 2 of the ESA.

Dated: March 29, 2011.
P. Michael Payne,
Chief, Permits, Conservation and Education Division, Office of Protected Resources, National Marine Fisheries Service.

[FR Doc. 2011-7954 Filed 4-1-11; 8:45 am]

BILLING CODE 3510-22-P